DEPARTMENT OF TRANSPORTATION

Federal Aviation Administration

Public Notice for Waiver of Aeronautical Land-Use Assurance; Jack Barstow Airport, Midland, MI

AGENCY: Federal Aviation Administration, DOT.

ACTION: Notice of intent of waiver with respect to land.

SUMMARY: The Federal Aviation Administration (FAA) is considering a proposal to change a portion of airport land from aeronautical use to non-aeronautical use. The proposal consists of one parcel of land, totaling approximately 17.4 acres. The property will be commercially developed, although no specific use has been identified. There are no impacts to the airport by allowing the airport to dispose of the property. The land (Parcel Number 1-11) was acquired under FAA Project No. 9-20-022-701. In accordance with section 47107(h) of title 49, United States Code, this notice is required to be published in the Federal Register 30 days before modifying the land-use assurance that requires the property to be used for an aeronautical purpose.

DATES: Comments must be received on or before June 3, 2002.

FOR FURTHER INFORMATION CONTACT: Mr. Jon B. Gilbert, Federal Aviation Administration, Great Lakes Region, Detroit Airports District Office, DET ADO-650.6, Willow Run Airport, East, 8820 Beck Road, Belleville, Michigan 48111, (734) 487-7281. Documents reflecting this FAA action may be reviewed at this same location or at the City Engineer (Mr. Brian McManus), City of Midland, 333 W. Ellsworth Street, Midland, Michigan.

SUPPLEMENTARY INFORMATION: Following is a legal description of the property located in the city of Midland, Midland County, Michigan, described as follows: Part of the Southwest ¼ of Section 32, T15N-R2E, City of Midland, Midland County, Michigan, described as: Beginning at a point which is S 00°02′11″ W, 1053.31 ft. along the North and South ¼ line, and S 78°54′33″ W, 61.15 ft. from the center of said Section 32; thence S 78°54′33″ W, 514.72 ft. on an intermediate traverse line along Jacobs Drain; thence S 75°53′19″ W, 73.28 ft. along said intermediate traverse line; thence S 00°24′53″ E, 582.06 ft. along a line which is parallel to and 50 ft. East of centerline of an entrance road to Jack Barstow Airport; thence S 89°31′34″ E, 925.86 ft. along the north right of way line of airport road; thence N 00°02′11″ E, 960.53 ft. along a line which is parallel to and 60 ft. West of the North and South ¼ line to the point of beginning, containing 17.44 acres, which includes all the land that lies between the intermediate traverse line and the centerline of Jacobs Drain and being subject to any easements of record. This notice announces that the FAA intends to authorize the disposal of the subject airport property at Jack Barstow Airport, Midland, Michigan.

Approval does not constitute a commitment by the FAA to financially assist in the disposal of the subject airport property nor a determination that all measures covered by the program are eligible for grant-in-aid funding from the FAA. The disposition of proceeds from the disposal of the airport property will be in accordance with the FAA's Policy and Procedures Concerning the Use of Airport Revenue.

Issued in Belleville, Michigan, February 28, 2002.
Irene R. Porter,
Manager, Detroit Airports District Office, Great Lakes Region.

[FR Doc. 02-11058 Filed 5-2-02; 8:45 am]

BILLING CODE 4910-13-M